DEPARTMENT OF TRANSPORTATION

Research and Special Programs Administration

[Docket Number: RSPA-98-4957

Pipeline Safety: Renewal of Information Collection: OMB Approval and Comment Request

AGENCY: Research and Special Programs Administration (RSPA), DOT.

ACTION: Request for public comments and OMB approval.

SUMMARY: This notice requests public participation in the Office of Management and Budget (OMB) approval process regarding the renewal of an existing RSPA/Office of Pipeline Safety (OPS) collection of information for Operator Qualification of Pipeline Personnel. RSPA/OPS published a notice requesting public comment on April 18, 2002 (67 FR 19312-13). RSPA/OPS is offering the public another opportunity to comment on this information collection. It is also requesting OMB approval for renewal of this information collection under the Paperwork Reduction Act of 1995. The public is invited to submit comments on ways to minimize the burden associated with collection of information related to the operator qualification requirements in the pipeline safety regulations, as well as other factors listed in the body of this notice.

DATES: Comments on this notice must be received within 30 days of the publication date of this notice to be assured of consideration.

ADDRESS: Interested persons are invited to send comments directly to The Office of Management and Budget, Office of Information and Regulatory Affairs, 726 Jackson Place Washington, DC 20503 ATTN: Desk Officer for the Department of Transportation.

Comments can be reviewed at the U.S. Department of Transportation Dockets Facility, Plaza 401, 400 Seventh Street, SW., Washington, DC which is open from 10 a.m. to 5 p.m., Monday through Friday, except on Federal holidays, when the facility is closed. Documents pertaining to this notice can be viewed in this docket. The docket can also be viewed electronically at http://dms.dot.gov.

FOR FURTHER INFORMATION CONTACT: Marvin Fell, (202) 366-6205, to ask questions about this notice; or write by e-mail to marvin.fell@rspa.dot.gov.

SUPPLEMENTARY INFORMATION: In response to the notice published on April 18, 2002 (67 FR 19312-13) one comment was received. A company which provides records management services for the pipeline industry suggested that RSPA/OPS overestimated the costs of this information collection. Because this was the only comment received, RSPA/OPS does not believe there is enough evidence to reduce the cost estimate of this information collection.

Comments are invited on: (a) The need for the proposed collection of information for the proper performance of the functions of the agency, including whether the information will have practical utility; (b) the accuracy of the agency's estimate of the burden of the proposed collection of information including the validity of the methodology and assumptions used; (c) ways to enhance the quality, utility and clarity of the information to be collected; and (d) ways to minimize the burden of the collection of information on those who are to respond, including the use of appropriate automated, electronic, mechanical, or other technological collection techniques.

Title: National Operator Qualification of Pipeline Personnel.

Type of Request: Renewal of existing information collection.

Abstract: Congressional concern with the lack of skills of some pipeline personnel was expressed in the Pipeline Safety and Reauthorization Act of 1988 (Pub. L. 100-561). It authorized the Secretary of Transportation to require all individuals responsible for the operation and maintenance of pipeline facilities to be properly qualified to safely perform tasks on pipeline facilities. The operator qualification requirements are described in the pipeline safety regulations at 49 CFR Part 192, subpart N and 49 CFR Part 195, subpart G.

Respondents: Gas and hazardous liquid pipeline operators.

Estimated Number of Respondents: 50,000.

Estimated Number of Responses per Respondent: 1.

Estimated Total Annual Burden on Respondents: 466,667 hours.

Issued in Washington, DC on July 12, 2002.
Stacey L. Gerard,
Associate Administrator for Pipeline Safety.

[FR Doc. 02-18035 Filed 7-16-02; 8:45 am]

BILLING CODE 4910-60-P